DEPARTMENT OF TRANSPORTATION

Maritime Administration

[Docket No. MARAD-2013-0101]

National Maritime Strategy Symposium: Cargo Opportunities and Sealift Capacity

AGENCY: Maritime Administration, Department of Transportation.

ACTION: Notice of solicitation for agenda topics for a public meeting.

SUMMARY: The Maritime Administration (MARAD) invites the public and other Marine Transportation System stakeholders to participate in a discussion intended to develop a robust national maritime strategy. The purpose of this public meeting is to gather ideas for improving the Nation's cargo opportunities and sealift capacity while ensuring future sustainability. Speaker and topic proposals for the public meeting's agenda are requested and may be submitted to the docket referenced above. The meeting agenda will be published in the docket and on the MARAD Web site at a later date, after consideration of responses received in the docket.

DATES: We plan to hold the public meeting from 9:00 a.m. to 4:30 p.m. daily, January 14 through January 16, 2014.

Key Date: The deadline to submit agenda topics and ideas for discussion is November 29, 2013.

See Submitting your agenda topics, comments and ideas below for specific directions.

The following are other important anticipated dates and deadlines:

Agenda released on MARAD docket and MARAD website; Registration opens—December 17, 2013

Deadline to register to attend the public meeting in person—January 3, 2014

Deadline to register to speak in person, speak by calling in, or to listen only by phone—January 3, 2014

Deadline to submit digital presentation materials—January 3, 2014

Call-in and Listen-only information distributed to registrants—January 8, 2014

Public Meeting—January 14-16, 2014 9:00 a.m.- 4:30 p.m.

ADDRESSES: The public meeting will be held in the U.S. Department of Transportation (DOT) West Atrium, located on the ground floor of 1200 New Jersey Avenue SE., Washington, DC 20590. Overflow seating will be available in adjacent conference rooms.

FOR FURTHER INFORMATION CONTACT: Christine S. Gurland, Assistant Chief Counsel for Legislation and Regulations, Office of Chief Counsel, MAR-225, Maritime Administration, 1200 New Jersey Avenue, Washington, DC 20590; (202) 366-5157; email: Christine.Gurland@dot.gov.

SUPPLEMENTARY INFORMATION:

Background

The Marine Transportation System is a core component of the United States' economic and national security. While it has proven to be strong and resilient, there is a need to improve and grow the industry to ensure the availability and viability of a U.S. Merchant Marine in the future. The historic strength of the United States as a maritime Nation relies on its global, coastal and inland commercial fleet, its ports and intermodal facilities, the national security establishment and the maritime workforce that supports and operates U.S.-flagged vessels. The purpose of this public meeting is to generate ideas that will improve, strengthen and sustain the cargo opportunities and sealift capacity. Those ideas will necessarily be focused on the U. S. Marine Transportation System.

Request for Public Input to Meeting Agenda and Topics for Discussion

1. The agenda for the meeting will be developed in collaboration with the public. The public is invited to propose agenda topics and to comment on the ideas submitted by others at http://www.regulations.gov, DOT Docket Number MARAD-2013-0101.

2. Proposed agenda items should focus on, but are not limited to, the following topics: fostering and improving the U.S.-flag fleet; improving transportation efficiency, speed, availability and cost-effectiveness; methods to improve overall U.S. economic competitiveness though improvements to the Marine Transportation System; improving transportation efficiency through interoperability with existing infrastructure systems and other modes of transportation; reduction of marine transportation pollution and adverse environmental impact; expansion of the pool of skilled and available U.S. mariners; developing strategically valuable capacity; increasing economical waterborne carriage for U.S. businesses; improving U.S. port operations and related businesses; improvement of global business and employment opportunities for the Nation; and fostering the construction and repair of vessels in U.S. shipyards.

3. Please provide a brief narrative to describe each topic you would like the public meeting to address. This information will help ensure proper coverage of the many topics and ideas we anticipate to be proposed. To ensure that comments are most useful in development of the meeting agenda and informing our deliberation and decision process, please provide citations to statutes or regulations to which you refer and supply any supporting information that would assist MARAD in establishing the agenda.

4. If you would like to propose a topic or an idea and would like to make a presentation on that topic or idea, please indicate your desire to make a presentation and that you will provide a summary paper or presentation materials in support of that topic or idea you are proposing for the agenda. Supporting materials can be submitted to the docket at a later date.

5. Comments received during development of the meeting agenda and any subsequent review will provide meaningful and significant information for senior MARAD officials considering topics to be discussed at the public meeting. We will endeavor to include all relevant topics proposed in the meeting agenda.

6. We will post the public meeting agenda to the docket at http://www.regulations.gov and on our Web site at http://www.MARAD.dot.gov by December 17, 2013.

Submitting Your Agenda Topics, Comments, and Ideas

1. We have opened a docket at http://www.regulations.gov to allow for submission of written proposals of agenda items for the National Maritime Strategy Symposium.

2. You may submit your inputs identified by DOT Docket Number MARAD-2013-0101 by any of the following methods: Web site/Federal eRulemaking Portal, Fax, Mail or Hand Delivery. Please use only one of these means for each submission. All submissions must include the agency name and docket number for this matter. Specific instructions follow.

3. For the Web site/Federal eRulemaking Portal, go to http://www.regulations.gov. Follow the instructions for submitting comments on the electronic docket site. To submit your input, type the docket number (MARAD-2013-0101) in the “SEARCH” box and click “SEARCH.” Click on “Submit a Comment” on the line associated with this Docket Number. If you submit an agenda topic, comment or idea online via www.regulations.gov, please note that inputs submitted to www.regulations.gov are not immediately posted to the site. It may take several business days before your submission will be posted on the electronic docket.

4. For submission by telefacsimile/FAX, transmit your agenda topic, comment or idea to (202) 493-2251. Be sure to identify the submission by DOT Docket Number MARAD-2013-0101.

5. Submissions by Mail or Hand Delivery should go to Docket Management Facility, U.S. Department of Transportation, 1200 New Jersey Avenue SE., West Building, Room W12-140, Washington, DC 20590, between 9:00 a.m. and 5:00 p.m., Monday through Friday, except on Federal holidays. If you submit your inputs by mail or hand delivery, submit them in an unbound format, no larger than 8½ by 11 inches, suitable for copying and electronic filing. If you submit comments by mail and would like to know that they reached the Facility, please enclose a stamped, self-addressed postcard or envelope.

6. If you FAX, mail or hand deliver your input we recommend that you include your name and a mailing address, an email address or a telephone number in the body of your document so that we can contact you if we have questions regarding your submission.

7. Note: All agenda topics, comments or ideas submitted for this purpose, including any personal information provided, will be posted without change to http://www.regulations.gov.

8. For access to the docket to read background documents or inputs received, go to http://www.regulations.gov at any time or to Room W12-140 of the Department of Transportation, 1200 New Jersey Avenue SE., Washington, DC 20590, between 9:00 a.m. and 5:00 p.m., Monday through Friday, except Federal Holidays. To view the docket electronically, type the docket number “MARAD-2013-0101” in the “SEARCH” box and click “Search.” Click and Open Docket Folder on the line associated with this rulemaking.

Anticipated Public Meeting Procedures

1. Additional details and registration instructions will be provided when the meeting and final agenda are announced in December.

2. The meeting is intended to collect public views and gather information to consider in developing a new maritime strategy. Therefore, the meeting will be conducted in an informal and non-adversarial manner.

3. The Maritime Administrator will preside over the public meeting. Senior Department and MARAD officials will also attend this meeting to receive comments from the public. During the meeting, we may ask questions that will clarify statements or gather more information or data to help us understand the issues raised by commenters.

4. Those who wish to speak during the meeting will be requested to advise, no later than November 29th, what topic or topics they would like to address through a presentation or on which they would like to comment; presentations and amplifying information will be welcome but are not required. We hope to be able to accommodate everyone who would like to speak at the meeting, but if there are more interested participants than time available, we will limit participants in order of date and time of registration. If available, time will be allotted to those attending the meeting in person to speak, even if they had not previously registered to speak. For those who wish to make comments, but for whom there is not time available or who do not wish to speak, it will be possible to post comments to the public docket. [See also Submitting your agenda topics, comments, and ideas section.]

5. The public meeting will be broadcast via live Web streaming by a link from http://www.MARAD.dot.gov and a listen-only telephone connection for which participants will need to register at a later date. Members of the public will be invited to make comments in person at the venue, through a call-in number, or by entry in the MARAD docket. Further details regarding the logistics of the public meeting will be published in a second notice in the Federal Register prior to the meeting.

6. A transcript of the public meeting will be made available via our Web site at http://www.MARAD.dot.gov and posted to the docket at www.regulations.gov. The recorded webcast video will remain available following the meeting via a link from our Web site at www.MARAD.dot.gov.

Privacy Act Statement

Anyone is able to search all comments entered into any of our dockets by the name of the individual submitting the comment (or signing the comment, if submitted on behalf of an association, business, labor union, etc.). You may review DOT's complete Privacy Act Statement in the Federal Register published on April 11, 2000 (65 FR 19476, 04/11/2011) or at http://www.dot.gov/privacy.html.

Authority: 5 U.S.C. 610; E.O., 13563, 76 FR 3821, Jan. 21 2011; E.O. 12866, 58 FR 51735, Oct. 4, 1993.

* * * * *

Dated: October 23, 2013.
By Order of the Maritime Administrator.
Julie Agarwal,
Secretary, Maritime Administration.

[FR Doc. 2013-25396 Filed 10-25-13; 8:45 am]

BILLING CODE 4910-81-P